Title 3—

The President

Presidential Determination No. 2000-20 of May 31, 2000

Presidential Determination on Assistance for Peacekeeping in Sierra Leone

Memorandum for the Secretary of State

Pursuant to the authority vested in me as President, including under section 10(d)(1) of the United Nations Participation Act of 1945, as amended (22 U.S.C. 287 et seq.) (the “Act”), I hereby determine that the furnishing, without regard to section 10(a) of the Act, of assistance covered by section 10 of the Act that is provided in support of peacekeeping efforts in Sierra Leone is important to the security interests of the United States.

You are authorized and directed to report this determination to the Congress and to publish it in the Federal Register.

wj

THE WHITE HOUSE,

Washington, May 31, 2000.

[FR Doc. 00-14619

Filed 6-7-00; 8:45 am]

Billing code 4710-10-M